DEPARTMENT OF TRANSPORTATION

Federal Motor Carrier Safety Administration

[Docket No. FMCSA 2013-0058]

Agency Information Collection Activities; Revision of a Currently Approved Collection: Driver Qualification Files

AGENCY: Federal Motor Carrier Safety Administration (FMCSA), DOT.

ACTION: Notice and request for comments.

SUMMARY: In accordance with the Paperwork Reduction Act of 1995, FMCSA announces its plan to submit the Information Collection Request (ICR) “Driver Qualification (DQ) Files” to the Office of Management and Budget (OMB) for its review and approval. Motor carriers must maintain a DQ file on each employee-driver and document therein that the individual meets the minimum qualification requirements for a driver of commercial motor vehicles (CMVs) in interstate commerce. The Agency's estimate of the number of drivers subject to these requirements has been revised to exclude any consideration of drivers and motor carriers operating exclusively in intrastate commerce. In addition, this revision request includes an updated estimate of the interstate drivers and an increase in the estimated annual burden hours for this ICR. The bulk of the increase in burden hours is the result of a more accurate Agency estimate of the number of job openings for CMV drivers offered each year. On March 5, 2013, FMCSA published a Federal Register notice allowing for a 60-day comment period on this ICR. The agency received five comments in response to that notice.

DATES: Please send your comments to this notice by June 24, 2013. OMB must receive your comments by this date to act quickly on the ICR.

ADDRESSES: All comments should reference Federal Docket Management System (FDMS) Docket Number FMCSA-2013-0058. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Thomas Yager, Chief, Driver and Carrier Operations Division, Office of Bus and Truck Standards and Operations, Federal Motor Carrier Safety Administration, 1200 New Jersey Avenue SE., Washington, DC 20590-0001. Telephone: 202-366-4325. Email: MCPSD@dot.gov.

SUPPLEMENTARY INFORMATION: Title: Driver Qualification Files.

OMB Control Number: 2126-0004.

Type of Request: Revision of a currently approved ICR.

Respondents: Motor carriers and drivers of commercial motor vehicles.

Estimated Number of Respondents: 46,900,000.

Estimated Time per Response: 30 minutes (average).

Expiration Date: May 31, 2013.

Frequency of Response: Responses to some regulatory requirements of the driver qualification rules occur on a random basis. Other responses occur more predictably. Some responses recur; others do not. For example, motor carriers are required to obtain and review the motor vehicle driving record of their drivers from the State of licensure. They must complete this task at the time of hiring and again every year thereafter. The time-of-hiring requirement results in a random frequency of response, but, thereafter, the annual requirement results in a fixed frequency of response.

Estimated Total Annual Burden: 5,800,000 hours [5,400,000 hours for driver hiring + 300,000 hours for annual review of driver qualifications + 100,000 hours for driver review and rebuttal of safety performance history = 5,800,000].

Background

The Motor Carrier Safety Act of 1984 [Pub. L. 98-554, Title II, 98 Stat. 2832 (October 30, 1984)] requires the Secretary of Transportation to issue regulations pertaining to CMV safety. These regulations are also issued under the authority provided by 49 U.S.C. 504, 31133, 31136, and 31502. Part 391 of volume 49 of the Code of Federal Regulations (CFR) contains the qualification requirements for drivers of CMVs in interstate commerce.

Motor carriers may not require or permit an unqualified driver to operate a CMV (49 CFR 391.11). The foremost proof of driver qualification is the information that part 391 requires be collected and maintained in the DQ file (49 CFR 391.51). Motor carriers must obtain this information from sources specified in the regulations. These include the driver, previous employers of the driver, and officials of the State of driver licensure.

Motor carriers are not required to forward driver qualification information to FMCSA, but must maintain the information in a DQ file. The DQ file must be updated annually (49 CFR 391.25). The DQ file of each driver must be made available to State and Federal safety investigators on demand.

This request for OMB approval revises the Agency's previous Paperwork Reduction Act estimate of the information collection burden of the DQ file requirements.

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued on: May 14, 2013.
G. Kelly Leone,
Associate Administrator, Office of Research and Information Technology and Chief Information Officer.

[FR Doc. 2013-12355 Filed 5-22-13; 8:45 am]

BILLING CODE 4910-EX-P